DEPARTMENT OF THE INTERIOR

Office of the Secretary

Meeting of the Exxon Valdez Oil Spill Public Advisory Group

AGENCY: Department of the Interior, Office of the Secretary.

ACTION: Notice of meeting.

SUMMARY: The Department of the Interior, Office of the Secretary is announcing a public meeting of the Exxon Valdez Oil Spill Public Advisory Group.

DATES: December 10, 2001, at 9:00 a.m.

ADDRESSES: Fifth floor conference room, 441 West 5th Avenue, Anchorage, Alaska.

FOR FURTHER INFORMATION CONTACT: Douglas Mutter, Department of the Interior, Office of Environmental Policy and Compliance, 1689 “C” Street, Suite 119, Anchorage, Alaska, (907) 271-5011.

SUPPLEMENTARY INFORMATION: The Public Advisory Group was created by Paragraph V.A.4 of the Memorandum of Agreement and Consent Decree entered into by the United States of America and the State of Alaska on August 27, 1991, and approved by the United States District Court for the District of Alaska in settlement of United States of America v. State of Alaska, Civil Action No. A91-081 CV. The meeting agenda will feature discussions about the fiscal year 2002 restoration work plan, the habitat program, the 2002 annual workshop, and the proposed Gulf of Alaska Ecosystem Monitoring and Research program.

Willie R. Taylor,
Director, Office of Environmental Policy and Compliance.

[FR Doc. 01-27937 Filed 11-6-01; 8:45 am]

BILLING CODE 4310-RG-P